DEPARTMENT OF DEFENSE

Office of the Secretary

[Docket ID DoD-2013-OS-0086]

Proposed Collection; Comment Request

AGENCY: Office of the Inspector General, DoD.

ACTION: Notice.

SUMMARY: In compliance with Section 3506(c)(2)(A) of the Paperwork Reduction Act of 1995, the Office of the Inspector General announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 5, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of Communications and Congressional Liaison, Office of Inspector General, Department of Defense, 4800 Mark Center Drive, Suite 15F26, Alexandria, VA 22350-1500, ATTN: Bridget Serchak or call 703-604-2028.

SUPPLEMENTARY INFORMATION:

Title; Associated Form; and OMB Number: DoDIG Generic Survey Collection: OMB Control Number 0704-TBD.

Needs and Uses: The information collection requirement is necessary to obtain customer satisfaction metrics from users of the organization's Web site, www.dodig.mil and those engaged by public affairs and social media initiatives. This collection is necessary for DoD IG's compliance with OMB Digital Strategy Milestone 8.2 and will enable the organization to make data-driven decisions on service performance and increase customer satisfaction.

Affected Public: Individuals and Households.

Annual Burden Hours: 1000.

Number of Respondents: 6000.

Responses per Respondent: 1.

Total Annual Responses: 6000.

Average Burden per Response: 10 minutes.

Frequency: On occasion.

Respondents will be users of the Web site www.dodig.mil+ and/or audiences of public affairs and social media outreach. Data collections will be in the form of brief online surveys querying on customer satisfaction regarding outreach efforts. The surveys will examine the overall customer experience, perceived ability to obtain the desired or needed information or service, likelihood of continued use, likelihood of recommending use to others, and other open-ended qualitative feedback. The surveys will be voluntary and users must actively choose to participate. No personally identifiable information (PII) or confidential information will be collected. DoDIG will conduct two surveys per year, for a total of six surveys over the three-year period of the generic clearance. The topics of surveys that will be conducted include:

• Web site Feedback—Online surveys assessing user experience for www.dodig.mil/. Questions will focus on data required to collect by the White House Digital Strategy Requirements.

• Social Media Outreach—Querying users on social media preferences in order to improve outreach using these platforms.

• Report Dissemination—Studying the means by which users find and would prefer to find DoDIG reports.

• Customer Perception of Organizational Identity—Examining how the customer perceives DoD IG and their awareness of its activities and contributions.

The conclusions drawn from these data collections will be essential for gauging effectiveness of communication efforts and improving customer satisfaction.

Dated: June 3, 2014.
Aaron Siegel,
Alternate OSD Federal Register, Liaison Officer, Department of Defense.

[FR Doc. 2014-13162 Filed 6-5-14; 8:45 am]

BILLING CODE 5001-06-P